DEPARTMENT OF TRANSPORTATION

Research and Special Programs Administration

Potential for Damage to Pipeline Facilities Caused by the Passage of Hurricane Ivan

AGENCY: Research and Special Programs Administration (RSPA), DOT.

ACTION: Notice; issuance of advisory bulletin.

SUMMARY: RSPA is issuing this advisory bulletin to owners and operators of gas and hazardous liquid pipelines to communicate the potential for damage to pipeline facilities caused by the passage of Hurricane Ivan on September 16, 2004.

ADDRESSES: This document can be viewed on the Office of Pipeline Safety (OPS) home page at: http://ops.dot.gov.

FOR FURTHER INFORMATION CONTACT: Richard Huriaux, (202) 366-4565, or by e-mail at richard.hurriaux@rspa.dot.gov.

SUPPLEMENTARY INFORMATION:

I. Background

The purpose of this advisory bulletin is to warn all operators of gas and hazardous liquid pipelines in the Gulf of Mexico and adjacent state waters that pipeline safety problems may have been caused by the passage of Hurricane Ivan on September 16, 2004. RSPA received several reports of damage to pipeline facilities in the offshore and inland areas of Louisiana, Mississippi, Alabama, and the Florida Panhandle.

It was reported in newspapers that officials with Houston-based Transocean found the semi-submersible drilling rig Deepwater Nautilus late Thursday, 70 miles from its original mooring site south of Mobile, Ala. No crew was aboard the rig, which likely rode through winds in excess of 140 mph and seas as high as 40 feet. The rig is built to handle winds of 120 mph, according to company data.

It was also reported that Diamond Offshore Drilling reported one of its rigs, the Ocean Star, was found drifting 12 miles from its mooring 80 miles south of Mobile, Ala.

Energy companies evacuated workers from 545 platforms and 69 drilling rigs in the Gulf, shutting in almost 4 million barrels of oil and 17 billion cubic feet of natural gas according to the U.S. Department of the Interior's Minerals Management Service.

The Federal pipeline safety regulations at 49 CFR parts 192 and 195 require operators to shut down and start up pipeline facilities in a safe manner and to conduct periodic pipeline patrols to detect unusual operating and maintenance conditions and to take corrective action if conditions are unsafe. Because this patrolling is generally by aircraft, pipelines exposed or damaged on the sea floor may not be visually detected. It is likely that some pipeline facilities and pipelines located in the area of Hurricane Ivan's impact are damaged or exposed.

The gas and hazardous liquid pipeline safety regulations require that operators mitigate the safety condition if a pipeline facility is damaged or if a pipeline is exposed on the sea floor or constitutes a hazard to navigation. The regulations require that damaged pipeline facilities or exposed pipelines must be repaired, replaced, or reburied to eliminate the hazard. And, pipelines that are a hazard to navigation must be promptly reported to the National Response Center (NRC) at 1-800-424-8802.

II. Advisory Bulletin (ADB-04-04)

To: Owners and operators of gas and hazardous liquid pipeline systems.

Subject: Potential for damage to pipeline facilities caused by the passage of Hurricane Ivan.

Advisory: All operators of gas and hazardous liquid pipelines in the Gulf of Mexico and adjacent state waters are warned that pipeline safety problems may have been caused by the passage of Hurricane Ivan on September 16, 2004. RSPA received several reports of damage to pipeline facilities, particularly offshore Louisiana.

Pipeline operators should consider taking the following actions regarding the gas and hazardous liquid pipelines located in areas impacted by Hurricane Ivan:

1. Identify persons who normally engage in shallow water commercial fishing, shrimping, and other marine vessel operations and caution them that submerged offshore pipelines may have become unprotected on the sea floor. Marine vessels operating in water depths comparable to a vessel's draft or when operating bottom dragging equipment can be damaged and their crews endangered by an encounter with a submerged pipeline.

2. Identify and caution marine vessel operators in offshore shipping lanes and other offshore areas where Hurricane Ivan may have affected a pipeline that deploying fishing nets or anchors, and dredging operations may damage the pipeline, their vessels, and endanger their crews.

3. In the process of bringing offshore and inland transmission facilities back online, operators are advised to check for structural damage to piping, valves, emergency shutdown systems, risers and supporting systems. Aerial inspections of pipeline routes should be conducted to check for leaks in the transmission systems. In areas where floating and jack-up rigs have moved and their path could have been over the pipelines, operators are advised to review possible routes and to check for sub-sea pipeline damage where required.

4. Identify and correct any conditions on the pipeline that violate the Federal pipeline safety regulations. (49 U.S.C. Chapter 601; 49 CFR 1.53).

Stacey L. Gerard,
Associate Administrator for Pipeline Safety.

[FR Doc. 04-21382 Filed 9-22-04; 8:45 am]

BILLING CODE 4910-60-P